FARM CREDIT SYSTEM INSURANCE CORPORATION

Regular Meeting: Farm Credit System Insurance Corporation Board

AGENCY: Farm Credit System Insurance Corporation.

ACTION: Notice, regular meeting.

SUMMARY: Notice is hereby given of the regular meeting of the Farm Credit System Insurance Corporation Board (Board).

DATES: The meeting of the Board will be held at the offices of the Farm Credit Administration in McLean, Virginia, on March 8, 2018, from 2:00 p.m. until such time as the Board concludes its business.

FOR FURTHER INFORMATION CONTACT: Dale L. Aultman, Secretary to the Farm Credit System Insurance Corporation Board, (703) 883-4009, TTY (703) 883-4056, aultmand@fca.gov.

ADDRESSES: Farm Credit System Insurance Corporation, 1501 Farm Credit Drive, McLean, Virginia 22102. Submit attendance requests via email to VisitorRequest@FCA.gov. See SUPPLEMENTARY INFORMATION for further information about attendance requests.

SUPPLEMENTARY INFORMATION: Parts of this meeting of the Board will be open to the public (limited space available), and parts will be closed to the public. Please send an email to VisitorRequest@FCA.gov at least 24 hours before the meeting. In your email include: Name, postal address, entity you are representing (if applicable), and telephone number. You will receive an email confirmation from us. Please be prepared to show a photo identification when you arrive. If you need assistance for accessibility reasons, or if you have any questions, contact Dale L. Aultman, Secretary to the Farm Credit System Insurance Corporation Board, at (703) 883-4009. The matters to be considered at the meeting are:

Open Session

A. Approval of Minutes

• January 18, 2018 (Regular Meeting)

B. Business Reports

• FCSIC Financial Reports

• Report on Insured and Other Obligations

• Quarterly Report on Annual Performance Plan

C. New Business

• Report on Investment Portfolio

• Policy Statement Concerning Sale of Assets

• Presentation of 2017 Audit Results

• Consideration of Allocated Insurance Reserves Accounts

Closed Session

• FCSIC Report on System Performance

Executive Session

• Approval of Minutes January 18, 2018 (Audit Committee Meeting)

• Executive Session of the FCSIC Board Audit Committee with the External Auditor

Dated: February 27, 2018.
Dale L. Aultman,
Secretary, Farm Credit System Insurance Corporation Board.

[FR Doc. 2018-04323 Filed 3-1-18; 8:45 am]

BILLING CODE 6710-01-P